Presidential Determination No. 2020-02 of October 18, 2019

Presidential Determination With Respect to the Efforts of Foreign Governments Regarding Trafficking in Persons

Memorandum for the Secretary of State

Consistent with section 110 of the Trafficking Victims Protection Act of 2000 (22 U.S.C. 7107) (the “Act”), as amended, I hereby determine as follows:

As provided for in section 110(d)(1)(A)(i) of the Act, and subject to the determinations below regarding assistance related to the Ebola virus disease and meeting minimum standards for the elimination of trafficking in persons, I determine that the United States will not provide nonhumanitarian, nontrade-related assistance to the Governments of Burundi, China, Equatorial Guinea, Eritrea, The Gambia, Iran, and Mauritania for Fiscal Year (FY) 2020 until such governments comply with the Act's minimum standards or make significant efforts to bring themselves into compliance with the minimum standards.

As provided for in section 110(d)(1)(A)(ii) of the Act, and subject to the determinations below regarding assistance related to the Ebola virus disease and meeting minimum standards for the elimination of trafficking in persons, I determine that the United States will not provide nonhumanitarian, nontrade-related assistance to, or allow funding for participation in educational and cultural exchange programs by officials or employees of, the Governments of Cuba, the Democratic People's Republic of Korea (DPRK), Russia, and Syria for FY 2020 until such governments comply with the Act's minimum standards for the elimination of trafficking or make significant efforts to bring themselves into compliance with the minimum standards.

As provided for in section 110(d)(1)(B) of the Act, and subject to the determinations below regarding assistance related to the Ebola virus disease and meeting minimum standards for the elimination of trafficking in persons, I hereby instruct the United States Executive Director of each multilateral development bank, as defined in the Act, and of the International Monetary Fund to vote against and use best efforts to deny any loan or other utilization of the funds of the respective institution (other than for humanitarian assistance; for trade-related assistance; or for development assistance that directly addresses basic human needs, is not administered by the government of such country, and confers no benefit to that government) for the Governments of Burundi, China, Cuba, the DPRK, Equatorial Guinea, Eritrea, The Gambia, Iran, Mauritania, Russia, Saudi Arabia, South Sudan, and Syria for FY 2020 until such governments comply with the Act's minimum standards or make significant efforts to bring themselves into compliance with the minimum standards.

Consistent with section 110(d)(4) of the Act, I determine that a partial waiver to allow assistance described in section 110(d)(1) of the Act for programs, projects, activities, and assistance to respond to the threat posed by the Ebola virus disease would promote the purposes of the Act or is otherwise in the national interest of the United States;

Consistent with section 110(d)(4) of the Act, I determine that a partial waiver to allow assistance described in section 110(d)(1) of the Act for programs, projects, activities, and assistance designed to meet the minimum standards for the elimination of trafficking in persons would promote the purposes of the Act or is otherwise in the national interest of the United States;

Consistent with section 110(d)(4) of the Act, I determine that a partial waiver to allow Economic Support Fund (ESF) assistance, Democracy Fund (DF) assistance, and technical assistance under section 129 of the Foreign Assistance Act of 1961 with respect to Burma would promote the purposes of the Act or is otherwise in the national interest of the United States;

Consistent with section 110(d)(4) of the Act, I determine that a partial waiver to allow assistance described in section 110(d)(1)(A)(i) of the Act with respect to the Democratic Republic of the Congo (DRC)—with the exception of Foreign Military Financing, Foreign Military Sales (FMS), and excess defense articles—would promote the purposes of the Act or is otherwise in the national interest of the United States;

Consistent with section 110(d)(4) of the Act, I determine that a partial waiver to allow FMS with respect to Saudi Arabia would promote the purposes of the Act or is otherwise in the national interest of the United States;

Consistent with section 110(d)(4) of the Act, I determine that a partial waiver to allow Peacekeeping Operations (PKO) assistance with respect to South Sudan would promote the purposes of the Act or is otherwise in the national interest of the United States;

Consistent with section 110(d)(4) of the Act, I determine that the provision of all programs, projects, and activities described in section 110(d)(1)(A)(i) of the Act with respect to the Governments of Belarus, Bhutan, Comoros, Papua New Guinea (PNG), Turkmenistan, and Venezuela would promote the purposes of the Act or is otherwise in the national interest of the United States; and

Consistent with section 110(d)(4) of the Act, I determine that providing the assistance described in section 110(d)(1)(B) of the Act to Belarus, Bhutan, Burma, Comoros, the DRC, PNG, Turkmenistan, and Venezuela would promote the purposes of the Act or is otherwise in the national interest of the United States.

You are authorized and directed to submit this determination, the certification required by section 110(e) of the Act, and the Memorandum of Justification, on which I have relied, to the Congress, and to publish the determination in the Federal Register.

THE WHITE HOUSE,

Washington, October 18, 2019

[FR Doc. 2019-24196

Filed 11-1-19; 11:15 am]

Billing code 4710-10-P